DEPARTMENT OF THE TREASURY

Office of Foreign Assets Control

Unblocking of Specially Designated National Pursuant to Executive Order 13413

AGENCY: Office of Foreign Assets Control, Treasury.

ACTION: Notice.

SUMMARY: The Treasury Department's Office of Foreign Assets Control (“OFAC”) is publishing the name of an individual whose property and interests in property have been unblocked pursuant to Executive Order 13413 of October 27, 2006, “Blocking Property of Persons Contributing to the Conflict in the Democratic Republic of Congo” and who has been removed from OFAC's list of Specially Designated Nationals and Blocked Persons (“SDN List”).

DATES: The unblocking and removal from the SDN List of the individual identified in this notice is effective on December 14, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On October 27, 2006, the President signed Executive Order 13413 (the “Order”) pursuant to, inter alia, the International Emergency Economic Powers Act (50 U.S.C. 1701 et seq.) (IEEPA), section 5 of the United Nations Participation Act, as amended (22 U.S.C. 287c) (UNPA), and section 301 of title 3, United States Code. In the Order, the President declared a national emergency and imposed sanctions relating to the situation in the Democratic Republic of the Congo.

Section 1 of the Order blocks, with certain exceptions, all property and interests in property that are in, or hereafter come within, the United States, or within the possession or control of United States persons, of persons determined by the Secretary of the Treasury, after consultation with the Secretary of State, to meet any of the criteria set forth in subparagraphs (a)(i)—(ii)(G) of Section 1.

On December 14, 2010, the Director of OFAC unblocked the property and interest in property of the individual listed below, pursuant to E.O. 13413 and removed him from the SDN List.

The former listing of the unblocked individual appeared as follows:

KISONI, Kambale (a.k.a. KAMBALE, Kisoni; a.k.a. KISONI, Dr.); DOB 24 May 1961; citizen Congo, Democratic Republic of the; Passport C0323172 (Congo, Democratic Republic of the) (individual) [DRCONGO]

Dated: December 14, 2010.
Adam J. Szubin,
Director, Office of Foreign Assets Control.

[FR Doc. 2010-31880 Filed 12-17-10; 8:45 am]

BILLING CODE 4811-45-P